DEPARTMENT OF COMMERCE

National Oceanic and Atmospheric Administration

[RTID 0648-XC778]

North Pacific Fishery Management Council; Public Meeting

AGENCY: National Marine Fisheries Service (NMFS), National Oceanic and Atmospheric Administration (NOAA), Commerce.

ACTION: Notice of hybrid meeting.

SUMMARY: The North Pacific Fishery Management Council (Council) Scallop Plan Team will meet on March 6, 2023.

DATES: The meeting will be held on Monday, March 6, 2023, from 9 a.m. to 5 p.m., AK time.

ADDRESSES: The meeting will be a hybrid meeting. Attend in person at the Kodiak Fisheries Research Center at 301 Research Cr., Kodiak, AK 99615, or join online through the link at https://meetings.npfmc.org/Meeting/Details/2981.

Council address: North Pacific Fishery Management Council, 1007 W 3rd Ave., Anchorage, AK 99501-2252; telephone: (907) 271-2809. Instructions for attending the meeting via video conference are given under SUPPLEMENTARY INFORMATION, below.

FOR FURTHER INFORMATION CONTACT: Sarah Rheinsmith, Council staff; phone; (907) 271-2809; email: sarah.rheinsmith@noaa.gov. For technical support, please contact our admin Council staff, email: npfmc.admin@noaa.gov.

SUPPLEMENTARY INFORMATION:

Agenda

Monday, March 6, 2023

The agenda will include (a) 2022 state dredge and trawl survey results; (b) Statewide fishery performance; (c) Retained-not landed meats; (d) Kodiak Shelikof stock synthesis analysis; (e) Socioeconomic considerations; (f) EFH update; (g) Stock status update and OFL; and (h) FMP amendment analysis on assessment interval. The agenda is subject to change, and the latest version will be posted at https://meetings.npfmc.org/Meeting/Details/2981 prior to the meeting, along with meeting materials.

Connection Information

You can attend the meeting online using a computer, tablet, or smart phone, or by phone only. Connection information will be posted online at: https://meetings.npfmc.org/Meeting/Details/2981.

Public Comment

Public comment letters will be accepted and should be submitted electronically to https://meetings.npfmc.org/Meeting/Details/2981.

Authority: 16 U.S.C. 1801 et seq.

Dated: February 13, 2023.
Rey Israel Marquez,
Acting Deputy Director, Office of Sustainable Fisheries, National Marine Fisheries Service.

[FR Doc. 2023-03317 Filed 2-15-23; 8:45 am]

BILLING CODE 3510-22-P